NATIONAL FOUNDATION ON THE ARTS AND THE HUMANITIES

Meeting of the National Museum and Library Services Board; Sunshine Act

AGENCY: Institute of Museum and Library Services.

ACTION: Notice of meeting.

SUMMARY: This notice sets for the agenda of a forthcoming meeting of the National Museum and Library Services Board. This notice also describes the function of the Board. Notice of this meeting is required under the Sunshine in Government Act.

TIME/DATE: 2 p.m. to 5:30 p.m. on Tuesday February 15, 2005.

AGENDA: Committee Meetings of the Fourth Meeting of the National Museum and Library Services Board

2 p.m.-3:30 p.m. Executive Session (Closed to the Public)

4 p.m.-5:30 p.m. Policy and Planning Committee (Open to the Public)

I. Staff Reports

II. Other Business

4 p.m.-5:30 p.m. Partnerships and Government Affairs Committee (Open to the Public)

I. Staff Reports

II. Other Business

ADDRESSES: The Old Post Office, 1100 Pennsylvania Avenue, NW., Washington, DC, (202) 606-4649.

TIME/DATE: 9 a.m. to 12:30 p.m. on Wednesday February 9, 2005.

AGENDA: Fourth Meeting of the National Museum and Library Services Board (open to the Public)

I. Welcome

II. Approval of Minutes

III. Program Reports

IV. Committee Reports

V. Program: Libraries, Museums and New Technologies: Recent Research

VI. Other Business

VII. Adjourn

ADDRESSES: The Government Printing Office, 732 North Capitol Street, NW., Carl Hayden Room, 8th Floor, Washington, DC, (202) 512-0571.

FOR FURTHER INFORMATION CONTACT: Elizabeth Lyons, Special Assistant to the Director, Institute of Museum and Library Services, 1100 Pennsylvania Avenue, NW., Room 510, Washington, DC 20506—(202) 606-4649.

SUPPLEMENTARY INFORMATION: The National Museum and Library Services Board is established under the Museum and Library Services Act, 20 U.S.C. Section 9101 et seq. The Board advises the Director of the Institute on general policies with respect to the duties, powers and authorities related to Museum and Library Services.

The executive session from 2 p.m. to 3:30 p.m. on Tuesday, February 15, 2005 will be closed pursuant to subsections (c)(4) and (c)(6) of section 552b of Title 5, United States Code because the Board will consider information that may disclose: Trade secrets and commercial or financial information obtained from a person and privileged or confidential; and information of a personal nature the disclosure of which would constitute a clearly unwarranted invasion of personal privacy. The meetings from 4 p.m. until 5:30 p.m. Tuesday, February 15, 2005 and the meeting from 9 a.m. to 12:30 p.m. on Wednesday, February 16, 2005 are open to the public. If you need special accommodations due to a disability, please contact: Institute of Museum and Library Services, 1100 Pennsylvania Avenue, NW., Washington, DC 20506—(202) 606-8536—TDD (202) 606-8636 at least seven (7) days prior to the meeting date.

Dated: January 31, 2005.
Teresa LaHaie,
Administrative Officer, National Foundation on the Arts and the Humanities, Institute of Museum and Library Services.

[FR Doc. 05-2096 Filed 1-31-05; 2:11 pm]

BILLING CODE 7036-01-M